DEPARTMENT OF HEALTH AND HUMAN SERVICES

Centers for Disease Control and Prevention

[30-Day-19-0571]

Agency Forms Undergoing Paperwork Reduction Act Review

In accordance with the Paperwork Reduction Act of 1995, the Centers for Disease Control and Prevention (CDC) has submitted the information collection request titled Minimum Data Elements (MDEs) for the National Breast and Cervical Cancer Early Detection Program (NBCCEDP) to the Office of Management and Budget (OMB) for review and approval. CDC previously published a “Proposed Data Collection Submitted for Public Comment and Recommendations” notice on March 5, 2018 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW, Washington, DC 20503 or by fax to (202) 395-5806. Provide written comments within 30 days of notice publication.

Proposed Project

Minimum Data Elements (MDEs) for the National Breast and Cervical Cancer Early Detection Program (NBCCEDP)—(OMB No. 0920-0571, exp. 12/31/2018)—Reinstatement with Change—National Center for Chronic Disease Prevention and Health Promotion (NCCDPHP), Centers for Disease Control and Prevention (CDC)

Background and Brief Description

CDC is requesting a Reinstatement with Change to OMB No. 0920-0571. Based on feedback from grantees and internal subject matter experts, CDC proposes use of revised minimum data elements (MDEs).

Both breast and cervical cancers are prevalent among U.S. women—in 2014, more than 236,000 women were diagnosed with breast cancer, and more than 12,000 women were diagnosed with cervical cancer. Evidence shows that deaths from both breast and cervical cancers can be avoided by increasing screening services—mammography and Pap tests—among women. However, screening is typically underutilized among women who are under- or uninsured, have no regular source of healthcare, or who recently immigrated to the U.S.

Congress passed the Breast and Cervical Cancer Mortality Prevention Act of 1990, which directed CDC to establish the National Breast and Cervical Cancer Early Detection Program (NBCCEDP). The purpose of the NBCCEDP is to increase breast and cervical cancer screening rates among priority populations by funding grantees to provide breast and cervical cancer screening services to eligible women. CDC issued a new funding opportunity announcement to support a five-year cooperative agreement under CDC-RFA-DP17-1701. The number of grantees will increase from 67 grantees to 70 grantees.

CDC proposes a Reinstatement with Change to the MDEs to include removal of several data variables that are no longer relevant for CDC analyses, as well as collapsing/revising several data variables to reduce burden and increase clarity for respondents. The MDEs focus on: (1) Patient demographics, (2) breast cancer screening, (3) cervical cancer screening, (4) breast and cervical cancer diagnoses, (5) breast and cervical cancer treatment, (6) timeliness of services, and (7) patient navigation.

Redesigned data elements will enable CDC to better gauge progress in meeting clinical service delivery processes and patient-level outcomes. Findings will allow CDC to assess program progress in meeting goals and monitor implementation activities, evaluate outcomes, and identify grantee technical assistance needs. In addition, data collected will inform program improvement and help identify successful activities that need to be maintained, replicated, or expanded.

OMB approval is requested for three years. The total estimated annualized burden hours will decrease from 536 to 350 hours. There are no costs to respondents other than their time.

Estimated Annualized Burden Hours
Type of respondents | Form name | Number of respondents | Number of responses per respondent | Average burden per response (in hours)
NBCCEDP Grantees | MDES | 70 | 2 | 150/60

Jeffrey M. Zirger,
Acting Lead, Information Collection Review Office, Office of Scientific Integrity, Office of Science, Centers for Disease Control and Prevention (CDC).

[FR Doc. 2019-01327 Filed 2-6-19; 8:45 am]

BILLING CODE 4163-18-P